DEPARTMENT OF EDUCATION

34 CFR Part 75

RIN 1880-AA02

Direct Grant Programs

AGENCY: Office of the Chief Financial Officer, Department of Education.

ACTION: Notice of proposed rulemaking; reopening of comment period.

SUMMARY: This document reopens the comment period for the proposed amendments to part 75 of the Education Department General Administrative Regulations (EDGAR) that would implement new options for the Department of Education's application review process for discretionary grants. On April 17, 2000 we published in the Federal Register (65 FR 20698) a notice of proposed rulemaking proposing amendments to part 75 of EDGAR. The deadline for comments on the proposed regulations was June 1, 2000. We are reopening the original 45-day comment period for the proposed regulations until June 30, 2000, because we have received requests to give stakeholders more time to comment on the proposed changes.

DATES: We must receive your comments on or before June 30, 2000.

ADDRESSES: All comments concerning the proposed regulations should be addressed to: Valerie A. Sinkovits, U.S. Department of Education, 400 Maryland Avenue, SW., room 3652, ROB-3, Washington, DC 20202-4838. If you prefer to send your comments through the Internet, use the following address: comments@ed.gov. You must include the term “Redesign” in the subject line of your electronic message.

FOR FURTHER INFORMATION CONTACT: Valerie Sinkovits, Telephone: (202) 708-7568. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION:

Electronic Access to This Document

You may view this document, as well as all other Department of Education documents published in the Federal Register, in text or Adobe Portable Document Format (PDF) on the Internet at any of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO access at: http://www.access.gpo.gov/nara/index.html

(Catalog of Federal Domestic Assistance Number does not apply.)

Dated: June 6, 2000.
Thomas P. Skelly,
Acting Chief Financial Officer.

[FR Doc. 00-14755 Filed 6-12-00; 8:45 am]

BILLING CODE 4000-01-P